DEPARTMENT OF COMMERCE

National Oceanic and Atmospheric Administration

50 CFR Parts 600 and 660

[Docket No. 001226367-0367-01; I.D. 121500E]

Magnuson-Stevens Act Provisions; Pacific Coast Groundfish Fishery; Annual Specifications and Management Measures; Correction

AGENCY: National Marine Fisheries Service (NMFS), National Oceanic and Atmospheric Administration (NOAA), Commerce.

ACTION: Corrections to the 2001 specifications for the Pacific Coast groundfish fishery.

SUMMARY: This document contains corrections to the 2001 groundfish fishery specifications and management measures for the Pacific Coast groundfish fishery, which were published on January 11, 2001 and amended February 14, 2001, April 9, 2001, May 4, 2001, May 24, 2001, and July 5, 2001.

DATES: Effective July 23, 2001.

FOR FURTHER INFORMATION CONTACT: Yvonne deReynier or Becky Renko at: phone, 206-526-6140; fax, 206-526-6736.

SUPPLEMENTARY INFORMATION: The 2001 fishery specifications and management measures for groundfish taken in the U.S. exclusive economic zone and state waters off the coasts of Washington, Oregon, and California, as authorized by the Pacific Coast Groundfish Fishery Management Plan, were published in the Federal Register on January 11, 2001 (66 FR 2338), and amended at 66 FR 10211 (February 14, 2001), at 66 FR 18409 (April 9, 2001), at 66 FR 22467 (May 4, 2001), at 66 FR 28676 (May 24, 2001), and at 66 FR 35388 (July 5, 2001). Table 3, 2001 Trip Limits for Limited Entry Trawl Gear, in the 2001 fishery specifications contained an error in the limit for petrale sole. This document corrects that error and republishes Table 3 in its entirety.

Correction

In the rule FR Doc.01-16801, in the issue of Thursday, July 5, 2001 (66 FR 35388), make the following correction:

1. On page 35391, Table 3 is corrected and republished in its entirety to read as follows:

IV. NMFS Actions

B. Limited Entry Fishery

* * * * *

BILLING CODE 3510-22-S

Dated: July 17, 2001.
William T. Hogarth,
Acting Assistant Administrator for Fisheries, National Marine Fisheries Service.

[FR Doc. 01-18323 Filed 7-20-01; 8:45 am]

BILLING CODE 3510-22-C